DEPARTMENT OF THE INTERIOR

National Park Service

National Register of Historic Places; Weekly Listing of Historic Properties

Pursuant to (36 CFR 60.13(b,c)) and (36 CFR 63.5), this notice, through publication of the information included herein, is to appraise the public as well as governmental agencies, associations and all other organizations and individuals interested in historic preservation, of the properties added to, or determined eligible for listing in, the National Register of Historic Places from December 8 to December 12, 2008.

For further information, please contact Edson Beall via: United States Postal Service mail, at the National Register of Historic Places, 2280, National Park Service, 1849 C St., NW., Washington, DC 20240; in person (by appointment), 1201 Eye St., NW., 8th floor, Washington DC 20005; by fax, 202-371-2229; by phone, 202-354-2255; or by e-mail, Edson_Beall@nps.gov.

Dated: January 26, 2009.
J. Paul Loether,
Chief, National Register of Historic Places/National Historic Landmarks Program.

KEY: State, County, Property Name, Address/Boundary, City, Vicinity, Reference Number, NHL, Action, Date, Multiple Name.

FLORIDA

Escambia County

Sacred Heart Catholic Church, 716 N. 9th Ave., Pensacola, 08001161, Listed, 12/10/08

ILLINOIS

Cook County

Hohf, Dr. Robert, House, 303 Sheridan Rd., Kenilworth vicinity, 08001166, Listed, 12/12/08

Cook County

O'Grady, Mr. J. William de Coursey, House, 149 Kenilworth Ave., Kenilworth, 08001167, Listed, 12/12/08

Cook County

South Shore Bungalow Historic District, Bounded roughly by S. Crandon Ave. on the E., E. 78th St. on the S., S. Clyde Ave. on the W., E. 75th St. on the N., Chicago, 08001168, Listed, 12/10/08 (Chicago Bungalows MPS)

Cook County

Talman West Ridge Bungalow Historic District, bounded roughly by N. Campbell Ave., W. Devon Ave., N. Fairfield Ave., and W. Pratt Ave., Chicago, 08001169, Listed, 12/10/08 (Chicago Bungalows MPS)

Henry County

Rehnstrom, August and Margaretha, House, 418 Locust St., Andover, 08001170, Listed, 12/10/08

IOWA

Black Hawk County

Rath Packing Company Administration Building, 1515 E. Sycamore St., 208-212 Elm St., Waterloo, 08001162, Listed, 12/10/08

Mahaska County

Ulysses Simpson Grant Elementary School, 715 B Ave. E., Oskaloosa, 08001163, Listed, 12/10/08

Poweshiek County

North Grinnell Historic District, Park to W., 6th Ave. to 11th Ave., Grinnell, 08001164, Listed, 12/10/08

KANSAS

Brown County

Graham, Seward, House, 115 Miami St., Hiawatha, 08001172, Listed, 12/11/08

Franklin County

Hanway, Judge James, House, 658 Virginia Rd., Lane vicinity, 08001173, Listed, 12/11/08

MARYLAND

Carroll County

Cold Saturday, 3251 Gamber Rd., Finksburg vicinity, 08001174, Listed, 12/11/08

Harford County

Martha Lewis (skipjack), Millard Tydings Memorial Park, Commerce St. at S. Strawberry La., Havre de Grace vicinity, 08001175, Listed, 12/11/08 (Chesapeake Bay Skipjack Fleet TR)

Kent County

Woodland Hall, 13111 Shallcross Wharf Rd., Kennedyville vicinity, 07001287, Listed, 12/10/08

MASSACHUSETTS

Franklin County

Turners Falls Sacred Ceremonial Hill Site, Address Restricted, Turners Falls, 65009949, *Determined eligible, 12/11/08

Hampden County

Sanford Whip Factory, 330 Elm St., Westfield, 08001176, Listed, 12/10/08

Hampshire County

Chesterfield Center Historic District, Main Rd., S. St., N. St., Bagg Rd., Bryant St., Chesterfield, 08001177, Listed, 12/11/08

Middlesex County

Myrtle Baptist Church Neighborhood Historic District, Roughly Curve St. and Prospect St., Newton, 08001178, Listed, 12/11/08 (Newton MRA (AD))

MISSOURI

St. Louis Independent City

Berry, Chuck, House, 3137 Whittier St., St. Louis, 08001179, Listed, 12/12/08

MONTANA

Park County

Chicken Creek Farmstead Historic District, 790 Rock Creek Rd. N., Clyde Park vicinity, 08001194, Listed, 12/12/08

NEBRASKA

Lancaster County

Boulevards Historic District, Roughly bounded by S. St., Calvert and High Sts., S. 22nd and S. 24th Sts., Rock Island Trail, Sheridan Blvd., Lincoln, 08001180, Listed, 12/10/08

NEW MEXICO

Santa Fe County

Santa Fe River Park Channel, Santa Fe River Park, Santa Fe, 08001181, Listed, 12/10/08 (New Deal in New Mexico MPS)

WASHINGTON

Island County

Site 45-IS-2, Address Restricted, Camano Island, 08001185, Listed, 12/11/08

Pierce County

McChord Field Historic District, McChord AFB, Tacoma, 08001026, Listed, 12/12/08

WISCONSIN

Dane County

Kemp, John and Margarethe, Cabin, 6950 WI Hwy. 78, Mazomanie, 08001187, Listed, 12/10/08

*Denotes Federal Determination of Eligibility.

[FR Doc. E9-2142 Filed 1-30-09; 8:45 am]

BILLING CODE 4310-70-P